GENERAL SERVICES ADMINISTRATION

[Notice-PBS-2024-02; Docket No. 2024-0002; Sequence No.3]

Notice of Availability of a Draft Environmental Impact Statement for the Alcan Land Port of Entry Expansion and Modernization in Alcan, Alaska; Withdrawal

AGENCY: Public Buildings Service, General Services Administration (GSA).

ACTION: Notice; withdrawal.

SUMMARY: GSA is announcing the withdrawal of the Notice of availability of a draft environmental impact statement for the Alcan land port of entry expansion and modernization in Alcan, Alaska. The February 7,2024 notice announced GSAs intent to prepare a Draft Environmental Impact Statement (DEIS) to analyze the potential environmental effects of the proposed expansion and modernization of the existing Alcan LPOE.

FOR FURTHER INFORMATION CONTACT: Aaron Evanson, Capital Project Manager, (206) 445-5876, AlcanLPOE@gsa.gov.

SUPPLEMENTARY INFORMATION: The Notice of availability published in the Federal Register on February 7, 2024. GSA plans to publish at a later date.

Lois Mandell,
Director Regulatory Secretariat Division, Office of Government-wide Policy.

[FR Doc. 2024-02847 Filed 2-12-24; 8:45 am]

BILLING CODE 6820-DL-P